DEPARTMENT OF JUSTICE

Notice of Lodging of Consent Decree Under the Clean Air Act (CAA)

Notice is hereby given that on October 30, 2008, a proposed Consent Decree in United States v. Biofriendly Corporation, Civil Action No. CV08-7124 SJO (CTx), was lodged with the United States District Court for the Central District of California.

In this action, the United States sought civil penalties and injunctive relief under the Clean Air Act Section 211(d), 42 U.S.C. 7545(d), for violations of the statute's registration requirements pertaining to fuel additives and fuels containing additives, which are manufactured and sold in the United States. The proposed Consent Decree would require Biofriendly Corporation to pay a civil penalty to the United States in the amount of $1,250,000. Defendant's performance of obligations under the Consent Decree would resolve its liability for allegations in the underlying Complaint.

For a period of thirty (30) days from the date of this publication, the Department of Justice will receive comments relating to the proposed Consent Decree. Comments should be addressed to the Assistant Attorney General, Environment and Natural Resources Division, and either e-mailed to pubcomment-ees.enrd@usdoj.gov, or mailed to P.O. Box 7611, U.S. Department of Justice, Washington, DC 20044-7611. Comments should refer to United States v. Biofriendly Corporation, D.J. Ref. # 90-5-2-1-09094.

The proposed Consent Decree may be examined on the following Department of Justice Web site, http://www.usdoj.gov/enrd/Consent_Decrees.html. A copy of the proposed Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation no. (202) 514-1547. In requesting a copy from the Consent Decree Library, please enclose a check in the amount of $3.75 (25 cents per page reproduction cost) for a copy exclusive of signature pages and appendices, or $4.50 (25 cents per page reproduction cost) for a copy including signature pages and appendices payable to the “U.S. Treasury” or, if by e-mail or fax, forward a check in that amount to the Consent Decree Library at the stated address.

Henry Friedman,
Assistant Section Chief, Environmental Enforcement Section.

[FR Doc. E8-26735 Filed 11-10-08; 8:45 am]

BILLING CODE 4410-15-P